INTERNATIONAL TRADE COMMISSION

[Investigation No. 337-TA-689]

In the Matter of Certain Dual Access Locks and Products Containing Same; Notice of Commission Determination Not To Review an Initial Determination Granting Motions for Summary Determination of Non-Infringement and Finding No Violation of Section 337; Termination of the Investigation

AGENCY: U.S. International Trade Commission.

ACTION: Notice.

SUMMARY: Notice is hereby given that the U.S. International Trade Commission has determined not to review an initial determination (“ID”) granting two motions for summary determination of non-infringement and no violation of section 337 issued by the presiding administrative law judge (“ALJ”) on March 18, 2010, in the above-captioned investigation.

FOR FURTHER INFORMATION CONTACT: Michael K. Haldenstein, Office of the General Counsel, U.S. International Trade Commission, 500 E Street, SW., Washington, DC 20436, telephone (202) 205-3041. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on October 21, 2009, under section 337 of the Tariff Act of 1930, as amended, 19 U.S.C. 1337, based on an amended complaint filed on October 5, 2009, by Safe Skies, LLC and David Tropp of Brooklyn, New York. 74 FR 54065 (October 21, 2009). The Commission named the following companies as respondents: C&C Luggage Manufacturing Co., Ltd. of China; Formosa Tai Rank Industrial Corp. of Taiwan; Hangzhou Gema Suitcases & Bags Co., Ltd. of China; La Pearl Luggage and Leather Goods Co., Ltd. of China; Hinomoto Jomae, Ltd. of Japan; Sinox Company, Ltd. of Taiwan; Yi Feng Manufacturing, Co., Ltd. of China; Jin Tay Industries Co., Ltd. of Taiwan; FULLYEAR-Brother Enterprise, Co., Ltd. of Taiwan; Zhuhai SkyGood Tech. Industrial Corp., Ltd. of China; Ningbo Xianfeng Art & Craft Co., Ltd. of China; Paloma Enterprises Co., Ltd. of Taiwan; Tekraft Industrial Co., Ltd. of Taiwan; Hangzhou Travelsky Co., Ltd. of China; The Sun Lock Company Ltd. of Hong Kong; Alloy Metal Manufactory, Ltd. of Hong Kong; Cometform, Ltd. of England; Design Go Ltd. of England; Franzen International of Germany; M-Power Lock Manufactory of Hong Kong.

The complaint alleged violations of section 337 based upon the importation into the United States, the sale for importation, and the sale within the United States after importation of certain dual access locks and products containing same that infringe claims 1-21 of U.S. Patent No. 7,021,537 and claims 1-20 of U.S. Patent No. 7,036,728. The complaint further alleged that an industry in the United States exists as required by subsection (a)(2) of section 337. The complainants requested that the Commission issue a general exclusion order and cease and desist orders.

On March 18, 2010, the ALJ issued an ID (Order No. 6) granting a motion of the Commission investigative attorney (“IA”) and a joint motion on behalf of 19 of the above-named respondents for summary determination of non-infringement of all asserted claims. Only respondent Formosa Tai Ran Industrial Corp. did not join in the joint motion for summary determination. On April 1, 2010, complainants filed a petition for review of the ID. On April 8, 2010, the IA filed an opposition to the petition for review. On April 9, 2010, the 19 respondents filed a joint opposition to the petition for review and a motion for leave to file their response out of time, which the Commission has granted.

Having examined the record in this investigation, including the ALJ's ID, the petition for review and the responses thereto, the Commission has determined not to review the ID and terminate the investigation with a finding of no violation of section 337.

The authority for the Commission's determination is contained in section 337 of the Tariff Act of 1930, as amended (19 U.S.C. 1337), and in sections 210.42-.46 of the Commission's Rules of Practice and Procedure (19 CFR 210.42-.46).

By order of the Commission.
Issued: May 3, 2010.
Marilyn R. Abbott,
Secretary to the Commission.

[FR Doc. 2010-10758 Filed 5-6-10; 8:45 am]

BILLING CODE 7020-02-P